DEPARTMENT OF AGRICULTURE

Submission for OMB Review; Comment Request

December 1, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology.

Comments regarding this information collection received by January 5, 2015 will be considered. Written comments should be addressed to: Desk Officer for Agriculture, Office of Information and Regulatory Affairs, Office of Management and Budget (OMB), New Executive Office Building, 725 17th Street NW., Washington, DC 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Generic Clearance for Large Scale Collaborative Project Socio-economic Monitoring.

OMB Control Number: 0596—NEW.

Summary of Collection: The Forest Landscape Restoration Act of 2009 (16 U.S.C. 7303) requires the Forest Service to monitor socio-economic impacts of collaborative restoration activities within the project site. In addition, the 2012 Planning Rule (36 CFR part 219) requires a transparent, collaborative and informed planning process. Large scale collaborative projects involve interested parties, such as neighboring land owners, state, local and tribal government representatives, businesses, interest groups and nonprofit organizations working with a federal government agency to find common ground pertaining to geographically extensive land management, often across multiple jurisdictions. Bureau of Land Management (BLM) and U.S. Forest Service (FS) collaboration on large scale projects also extends beyond Collaborative Forest Landscape Restoration and Management Plans.

Need and Use of the Information: Data will be collected through a variety of methods, including: A census survey of partners/participants of a collaborative project; mail-survey of residents in the large scale collaborative project or planning areas; survey of spending habits of restoration workers; and key informant interviews with business, community, stakeholder leaders in collaborative project and planning areas. Results will assist program managers in evaluating the positive and negative social and economic effects of collaborative project implementation and assist FS and BLM forest planners in meeting collaborative and public input requirement of the 2012 Forest Planning Rule.

Description of Respondents: Individuals; Business or other for-profit; Not-for-profit institutions; State, Local or Tribal Governments.

Number of Respondents: 48,800.

Frequency of Responses: Reporting: Annually.

Total Burden Hours: 38,800.

Forest Service

Title: Generic Clearance for the Stewardship Mapping and Assessment Project (STEW-MAP).

OMB Control Number: 0596—NEW.

Summary of Collection: The Cooperative Forestry Assistance Act of 1978 (Pub. L. 113-79) Section 9(a); (b)(8); (c) and (d); The Forest and Rangeland Renewable Resources Research Act of 1978 and the National Environmental Policy Act of 1969 authorize the Forest Service to expand and strengthen existing research, education, technical assistance and public information and participation in tree planting and maintenance programs through stewardship. Civic environmental stewards are involved in a range of activities like planting trees, organizing community gardens, offering environment-themed classes, leading local conservation efforts, monitoring plants and animals, and cleaning up nearby parks or natural areas. These stewards may be nonprofit organizations, formal or informal community groups, faith-based organizations, or academic institutions. STEW-MAP will create a publicly available database and map of stewardship groups, their activities, and where they work.

Need and Use of the Information: Information will be gathered on civic stewardship groups and their efforts such as where they work, the types of projects they focus on, and how they are organized. There are three phases to a STEW-MAP project: (1) A census to put together a master list of known stewardship groups and their contact information in the target city or region; (2) a survey distributed to all of the organizations identified in phase one to collect information about what they work on, structure of the group and what other groups they collaborate with; and (3) follow-up interviews with key longstanding organizations identified during phase two, to collect more detailed information about organizational histories.

Description of Respondents: Business or other for-profit; Not-for-profit institutions; State, Local or Tribal Governments.

Number of Respondents: 15,900.

Frequency of Responses: Reporting: Annually.

Total Burden Hours: 7,925.

Charlene Parker,
Departmental Information Collection Clearance Officer.

[FR Doc. 2014-28552 Filed 12-4-14; 8:45 am]

BILLING CODE 3411-15-P